DEPARTMENT OF ENERGY

[OE Docket No. EA-380]

Application to Export Electric Energy; Freepoint Commodities, LLC

AGENCY: Office of Electricity Delivery and Energy Reliability, DOE.

ACTION: Notice of application.

SUMMARY: Freepoint Commodities, LLC has requested authority to transmit electric energy from the United States to Canada pursuant to section 202(e) of the Federal Power Act (FPA).

DATES: Comments, protests, or requests to intervene must be submitted to DOE and received on or before July 28, 2011.

ADDRESSES: Comments, protests, or requests to intervene should be addressed to: Lamont Jackson, Office of Electricity Delivery and Energy Reliability, Mail Code: OE-20, U.S. Department of Energy, 1000 Independence Avenue, SW., Washington, DC 20585-0350. Because of delays in handling conventional mail, it is recommended that documents be transmitted by overnight mail, by electronic mail to Lamont.Jackson@hq.doe.gov, or by facsimile to 202-586-8008.

FOR FURTHER INFORMATION CONTACT: Lamont Jackson (Program Office) 202-586-0808.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C. 824a(e)).

On April 15, 2011, DOE received an application from Freepoint Commodities requesting authority to transmit electric energy from the United States to Canada for ten years as a power marketer. Freepoint Commodities proposes to use existing authorized international electric transmission facilities that are appropriate for open access by third parties, including facilities that have been authorized but not yet constructed and placed into operation. Neither Freepoint Commodities nor any of its affiliates owns, controls or operates any electric transmission facilities in the United States.

The electric energy that Freepoint Commodities proposes to export to Canada would be surplus energy purchased from electric utilities and Federal power marketing agencies within the United States. The existing international transmission facilities to be utilized by Freepoint Commodities have previously been authorized by Presidential permits issued pursuant to Executive Order 10485, as amended, and are appropriate for open access transmission by third parties.

Procedural Matters: Any person desiring to become a party to these proceedings or to be heard by filing comments or protests to this application should file a petition to intervene, comment, or protest at the address provided above in accordance with §§ 385.211 or 385.214 of the Federal Energy Regulatory Commission's Rules of Practice and Procedures (18 CFR 385.211, 385.214). Fifteen copies of each petition and protest should be filed with DOE and must be received on or before the date listed above.

Comments on the Freepoint Commodities application to export electric energy to Canada should be clearly marked with OE Docket No. EA-380. An additional copy is to be filed directly with Daniel M. Hecht, General Counsel, Freepoint Commodities, LLC, 1281 E. Main Street, Third floor, Stamford, CT 06902 and Margaret A. Moore, Vincenzo Franco, and Julia Wood, Van Ness Feldman, P.C., 1050 Thomas Jefferson St., NW., seventh floor, Washington, DC 20007. A final decision will be made on this application after the environmental impacts have been evaluated pursuant to DOE's National Environmental Policy Act Implementing Procedures (10 CFR part 1021) and after a determination is made by DOE that the proposed action will not have an adverse impact on the reliability of the U.S. electric power supply system.

Copies of this application will be made available, upon request, for public inspection and copying at the address provided above, by accessing the program Web site at http://www.oe.energy.gov/permits_pending.htm, or by e-mailing Odessa Hopkins at Odessa.Hopkins@hq.doe.gov.

Issued in Washington, DC on June 21, 2011.
Anthony J. Como,
Director, Permitting and Siting, Office of Electricity Delivery and Energy Reliability.

[FR Doc. 2011-16146 Filed 6-27-11; 8:45 am]

BILLING CODE 6450-01-P